GENERAL SERVICES ADMINISTRATION

Federal Travel Regulation (FTR); Relocation Allowances; Notice of GSA Bulletin FTR 09-03

AGENCY: Office of Governmentwide Policy, General Services Administration (GSA).

ACTION: Notice of a bulletin.

SUMMARY: On December 11, 2007, the General Services Administration (GSA) published FTR Amendment 2007-06 in the Federal Register (72 FR 70234) specifying that the Internal Revenue Service (IRS) Standard Mileage Rate for moving purposes would be the rate at which agencies will reimburse an employee for using a privately-owned vehicle for relocation on a worldwide basis. The amendment indicated that the change to the IRS Standard Mileage Rate for moving purposes applied to relocations on and after September 25, 2007, and that GSA would publish a bulletin announcing any changes to that rate made by the IRS thereafter. On November 24, 2008, the IRS announced that as of January 1, 2009, the relocation mileage rate would decrease to $0.24 per mile for the 12 month period ending on December 31, 2009. Thus, the reimbursement rate for relocation will also be $0.24 for the same period. GSA Bulletin FTR 09-03 may be found at http://www.gsa.gov/federaltravelregulation.

DATES: The bulletin announced in this notice became effective December 12, 2008, and applies to relocations performed on or after January 1, 2009 until December 31, 2009.

FOR FURTHER INFORMATION CONTACT: Mr. Ed Davis, Office of Governmentwide Policy (M), Office of Travel, Transportation, and Asset Management (MT), General Services Administration at (202) 208-7638 or via e-mail at ed.davis@gsa.gov. Please cite FTR Bulletin 09-03.

Dated: December 29, 2008.
Russell H. Pentz,
Assistant Deputy Associate Administrator, Office of Travel, Transportation, and Asset Management.

[FR Doc. E8-31231 Filed 12-31-08; 8:45 am]

BILLING CODE 6820-14-P